DEPARTMENT OF THE INTERIOR

Bureau of Land Management

[ID 933-1430-ET; DK-G05-0001; ID-15248]

Public Land Order No. 7624; Revocation of Secretarial Order Dated October 22, 1920; Idaho

AGENCY: Bureau of Land Management, Interior.

ACTION: Public Land Order.

SUMMARY: This order revokes a Secretarial Order in its entirety as it affects 36,578.69 acres of land withdrawn for the Bureau of Reclamation's Minidoka Project, American Falls Reservoir. The land is located within the Fort Hall Indian Reservation and would return to the management and jurisdiction of the Bureau of Indian Affairs.

EFFECTIVE DATES: January 31, 2005.

FOR FURTHER INFORMATION CONTACT: Jackie Simmons, BLM Idaho State Office, 1387 South Vinnell Way, Boise, Idaho, 208-373-3867.

SUPPLEMENTARY INFORMATION: A copy of the original Secretarial Order dated October 22, 1920 describing the land involved is available at the BLM Idaho State Office at the address above.

Order

By virtue of the authority vested in the Secretary of the Interior by Section 204 of the Federal Land Policy and Management Act of 1976, 43 U.S.C. 1714 (2000), it is ordered as follows:

The Secretarial Order dated October 22, 1920, which withdrew 36,578.69 acres of land for the Bureau of Reclamation's Minidoka Project American Falls Reservoir, is hereby revoked in its entirety.

Dated: January 6, 2005.
Rebecca W. Watson,
Assistant Secretary—Land and Minerals Management.

[FR Doc. 05-1690 Filed 1-28-05; 8:45 am]

BILLING CODE 4310-33-P